DEPARTMENT OF TRANSPORTATION

Federal Aviation Administration

14 CFR Part 39

[Docket No. FAA-2005-22488; Directorate Identifier 2005-NM-151-AD]

RIN 2120-AA64

Airworthiness Directives; Boeing Model 767-200 and -300 Series Airplanes

AGENCY: Federal Aviation Administration (FAA), Department of Transportation (DOT).

ACTION: Notice of proposed rulemaking (NPRM).

SUMMARY: The FAA proposes to revise an existing airworthiness directive (AD) that applies to certain Boeing Model 767-200 and -300 series airplanes. The existing AD currently requires repetitive inspections to detect wear or damage of the door latches and disconnect housings in the off-wing escape slide compartments, and replacement of any discrepant component with a new component. This proposed AD would revise the applicability of the existing AD to refer to a later revision of the referenced service bulletin, which removes airplanes that are not subject to the identified unsafe condition. This proposed AD results from reports of worn and damaged door latches and disconnect housings in the off-wing escape slide compartments. We are proposing this AD to ensure deployment of an escape slide during an emergency evacuation. Non-deployment of an escape slide during an emergency could slow down the evacuation of the airplane and result in injury to passengers or flightcrew. We are also proposing this AD to detect damaged disconnect housings in the off-wing escape slide compartments, which could result in unexpected deployment of an escape slide during maintenance, and consequent injury to maintenance personnel.

DATES: We must receive comments on this proposed AD by November 7, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, PO Box 3707, Seattle, Washington 98124-2207, for service information identified in this proposed AD.

FOR FURTHER INFORMATION CONTACT: Susan Rosanske, Aerospace Engineer, Systems and Equipment Branch, ANM-130S, FAA, Seattle Aircraft Certification Office, 1601 Lind Avenue, SW., Renton, Washington 98055-4056; telephone (425) 917-6448; fax (425) 917-6590.

SUPPLEMENTARY INFORMATION:

Comments Invited

We invite you to submit any relevant written data, views, or arguments regarding this proposed AD. Send your comments to an address listed in the ADDRESSES section. Include docket number “Docket No. FAA-2005-22488; Directorate Identifier 2005-NM-151-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in a docket, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On June 1, 2000, we issued AD 2000-11-19, amendment 39-11767 (65 FR 37015, June 13, 2000), for certain Boeing Model 767-200 and -300 series airplanes. That AD requires repetitive inspections to detect wear or damage of the door latches and disconnect housings in the off-wing escape slide compartments, and replacement of any discrepant component with a new component. That AD resulted from reports of worn and damaged door latches and disconnect housings in the off-wing escape slide compartments. We issued that AD to ensure deployment of an escape slide during an emergency evacuation. Non-deployment of an escape slide during an emergency could slow down the evacuation of the airplane and result in injury to passengers or flightcrew. We also issued that AD to detect damaged disconnect housings in the off-wing escape slide compartments, which could result in unexpected deployment of an escape slide during maintenance, and consequent injury to maintenance personnel.

Actions Since Existing AD Was Issued

Since we issued AD 2000-11-19, we have reviewed Boeing Service Bulletin 767-25A0260, Revision 1, dated January 25, 2001; Revision 2, dated August 26, 2004; and Revision 3, dated July 7, 2005 (AD 2000-11-19 refers to the original issue of the service bulletin as the appropriate source of service information for accomplishing the required actions). The inspections and corrective actions specified in Revisions 1 through 3 are identical to those in the original issue of the service bulletin. Revision 1 changes the listing of affected airplane operators. Revision 2 revises the effectivity to exclude airplanes having line numbers 921 and subsequent on which the new off-wing slide has been incorporated during production. Revision 3 removes 14 airplanes from the effectivity, because the airplanes do not have off-wing escape slides. Accomplishing the actions specified in the service information is intended to adequately address the unsafe condition.

Therefore, we have determined that the airplanes deleted from the effectivity of the referenced service bulletin are not subject to the identified unsafe condition specified in AD 2000-11-19, and that the applicability of that AD needs to be revised.

FAA's Determination and Requirements of the Proposed AD

We have evaluated all pertinent information and identified an unsafe condition that is likely to exist or develop on other airplanes of this same type design. For this reason, we are proposing this AD, which would revise AD 2000-11-19 and would retain the requirements of the existing AD. This proposed AD would also revise the applicability of the existing AD to refer to a later revision of the referenced service bulletin, which removes airplanes that are not subject to the identified unsafe condition.

Change to Existing AD

This proposed AD would retain all requirements of AD 2000-11-19. Since AD 2000-11-19 was issued, the AD format has been revised, and certain paragraphs have been rearranged. As a result, the corresponding paragraph identifiers have changed in this proposed AD, as listed in the following table:

Revised Paragraph Identifiers
Requirement in AD 2000-11-19 | Corresponding requirement in this proposed AD
Paragraph (a) | Paragraph (f).
Paragraph (b) | Paragraph (h).

We also have changed all references to a “detailed visual inspection” in the existing AD to “detailed inspection” in this action.

Costs of Compliance

There are about 694 airplanes of the affected design in the worldwide fleet. This proposed AD would affect about 315 airplanes of U.S. registry.

The inspections that are required by AD 2000-11-19 and retained in this proposed AD take about 3 work hours per airplane, at an average labor rate of $65 per work hour. Based on these figures, the estimated cost of the currently required inspections is $61,425, or $195 per airplane, per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and place it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11767 (65 FR 37015, June 13, 2000) and adding the following new airworthiness directive (AD):

Boeing: Docket No. FAA-2005-22488; Directorate Identifier 2005-NM-151-AD.

Comments Due Date

(a) The FAA must receive comments on this AD action by November 7, 2005.

Affected ADs

(b) This AD revises AD 2000-11-19.

Applicability

(c) This AD applies to Boeing Model 767-200 and -300 series airplanes, certificated in any category; as identified in Boeing Service Bulletin 767-25A0260, Revision 3, dated July 7, 2005; excluding those airplanes that have been converted from a passenger to freighter configuration, and on which the off-wing escape system has been removed or deactivated.

Unsafe Condition

(d) This AD results from reports of worn and damaged door latches and disconnect housings in the off-wing escape slide compartments. We are issuing this AD to ensure deployment of an escape slide during an emergency evacuation. Non-deployment of an escape slide during an emergency could slow down the evacuation of the airplane and result in injury to passengers or flightcrew. We are also issuing this AD to detect damaged disconnect housings in the off-wing escape slide compartments, which could result in unexpected deployment of an escape slide during maintenance, and consequent injury to maintenance personnel.

Compliance

(e) You are responsible for having the actions required by this AD performed within the compliance times specified, unless the actions have already been done.

Requirements of AD 2000-11-19

Inspections

(f) Prior to the accumulation of 6,000 total flight hours, or within 18 months after July 18, 2000 (the effective date of AD 2000-11-19), whichever occurs later, perform a detailed inspection to detect wear or damage of the door latches and disconnect housings in the off-wing escape slide compartments, in accordance with Boeing Alert Service Bulletin 767-25A0260, dated July 9, 1998. Repeat the inspection thereafter at intervals not to exceed 6,000 flight hours or 18 months, whichever occurs later.

Note 1: Boeing Alert Service Bulletin 767-25A0260, dated July 9, 1998, allows repetitive inspections of a door latch having part number H2052-11 or H2052-115, provided that the latch is not worn or damaged. However, replacement of any latch having part number H2052-11 or H2052-115 with a new latch having part number H2052-13 is described as part of a modification of the escape slide compartment door latching mechanism that is specified in Boeing Alert Service Bulletin 767-25A0174, dated August 15, 1991. Accomplishment of that modification is required by AD 92-16-17, amendment 39-8327, and AD 95-08-11, amendment 39-9200. Therefore, operators should note that any latch having part number H2052-11 or H2052-115 found during an inspection required by paragraph (f) of this AD is already required to be replaced in accordance with AD 92-16-17 or AD 95-08-11, as applicable.

(g) Inspections and corrective actions accomplished prior to July 18, 2000, in accordance with the Validation Copy of Boeing Alert Service Bulletin 767-25A0260, dated April 28, 1998, are considered acceptable for compliance with the applicable action specified in this AD.

Replacement

(h) If any part is found to be worn or damaged during the inspections performed in accordance with paragraph (f) of this AD, prior to further flight, replace the worn or damaged part with a new part, and perform an adjustment of the off-wing escape slide system, in accordance with Boeing Alert Service Bulletin 767-25A0260, dated July 9, 1998.

New Optional Actions

Compliance With Revisions 1 Through 3 of Referenced Service Bulletin

(i) Inspections and applicable corrective actions done after the effective date of this AD in accordance with Boeing Service Bulletin 767-25A0260, Revision 1, dated January 25, 2001; Revision 2, dated August 26, 2004; or Revision 3, dated July 7, 2005; are acceptable for compliance with the corresponding requirements of this AD.

Alternative Methods of Compliance (AMOCs)

(j) The Manager, Seattle Aircraft Certification Office, FAA, has the authority to approve AMOCs for this AD, if requested in accordance with the procedures found in 14 CFR 39.19.

Issued in Renton, Washington, on September 13, 2005.
Kalene C. Yanamura,
Acting Manager, Transport Airplane Directorate, Aircraft Certification Service.

[FR Doc. 05-18796 Filed 9-20-05; 8:45 am]

BILLING CODE 4910-13-P